DEPARTMENT OF THE INTERIOR

Fish and Wildlife Service

Notice of Availability of the Assessment Plan for the Natural Resource Damage Assessment at the Ashtabula River and Harbor Site

AGENCY: Fish and Wildlife Service, Interior.

ACTION: Notice of 30-day comment period.

SUMMARY: Notice is given that the document titled “Natural Resource Damage Assessment Plan for the Ashtabula River and Harbor” (“the Plan”) will be available for public review and comment on the date of publication in the Federal Register. The U.S. Departments of the Interior (Fish and Wildlife Service) and Commerce (National Oceanic and Atmospheric Administration) and the Ohio Environmental Protection Agency are trustees for natural resources (“trustees”) considered in this assessment, pursuant to subpart G of the National Oil and Hazardous Substances Pollution Contingency Plan, 40 CFR 300.600 and 300.610, and Executive Order 12580.

The trustees are following the guidance of the Natural Resource Damage Assessment Regulations found at 43 CFR part 11. The public review of the Plan announced by this Notice is provided for in 43 CFR 11.32(c).

Interested members of the public are invited to review and comment on the Plan. Copies of the Plan can be requested from the address listed below. All written comments will be considered by the trustees and included in the Report of Assessment at the conclusion of the assessment process.

DATES: Written comments on the Plan must be submitted within 30 days of the date of this Notice.

ADDRESSES: Comments on the Plan should be sent to: Dr. Sheila Abraham, Ohio Environmental Protection Agency, North East District Office, 2110 East Aurora Road, Twinsburg, Ohio 44087 or Mr. David De Vault, U.S. Fish and Wildlife Service, 1 Federal Drive, Fort Snelling, Minnesota 55111

FOR FURTHER INFORMATION CONTACT: Dr. Sheila Abraham (330) 963-1290 or Mr. David De Vault, (612) 713-5340.

SUPPLEMENTARY INFORMATION: The trustees are undertaking an assessment of damages resulting from suspected injuries to natural resources in and near the lower Ashtabula River and Harbor that have been exposed to hazardous substances released by industrial activity at the Fields Brook Superfund Site and the Ashtabula River and Harbor. The trustees suspect this exposure has caused injury and resultant damages to trustee resources. The injury and resultant damages will be addressed under the Comprehensive Environmental Response, Compensation, and Liability Act, as amended, in order to determine the appropriate type and extent of resource restoration. The Plan addresses the trustee's overall assessment approach, and utilizes both existing data as well as additional data to be collected. Plan addenda may be prepared by the trustees to provide public notice of additional data collection activities. Restoration of natural resources will be proposed by the trustees following the assessment.

Requests for copies of the Plan may be made to the Case Managers at the addresses listed above. The Trustee Case Managers will provide copies of all comments to all trustees.

You may submit comments on the Plan by sending electronic mail (e-mail) to: dave_devault@fws.gov or sheila.abraham@epa.state.oh.us. Do not use any special characters or forms of encryption in your e-mail. The trustees also accept comments in WordPerfect and Word versions as attachments to the e-mail or on disk.

Dated: January 27, 2003.
William F. Hartwig,
Regional Director, Region 3, Fish and Wildlife Service.

[FR Doc. 03-3920 Filed 2-18-03; 8:45 am]

BILLING CODE 4310-55-P